DEPARTMENT OF HEALTH AND HUMAN SERVICES

Office of the Secretary

[Document Identifier: HHS-OS-0990-new-30D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Comments submitted during the first public review of this ICR will be provided to OMB. OMB will accept further comments from the public on this ICR during the review and approval period.

DATES: Comments on the ICR must be received on or before July 17, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-new-30D for reference. Information Collection Request Title: Title X Sustainability Assessment Tool for Grantees and Service Sites.

Abstract: The Office of Population Affairs within the Office of the Assistant Secretary for Health seeks to collect data from the Title X centers on efforts related to (1) assisting individuals in obtaining health insurance; (2) partnerships with primary care providers; (3) availability and use of electronic health records; (4) monitoring patient care quality; (5) factors affecting revenue sources; and (6) the way that sites conduct analyses to consider the cost of providing services.

Need and Proposed Use of the Information: The Title X Family Planning Program (“Title X program” or “program”) is the only Federal grant program dedicated solely to providing individuals with comprehensive family planning and related preventive health services (e.g., screening for breast and cervical cancer, sexually transmitted diseases (STDs), and human immunodeficiency virus [HIV]). By law, priority is given to persons from low-income families (Section 1006[c] of Title X of the Public Health Service Act, 42 U.S.C. 300). The Office of Population Affairs (OPA) within the Office of the Assistant Secretary for Health administers the Title X program.

The American health care system is experiencing unprecedented levels of change as a result of the Patient Protection and Affordable Care Act (ACA). The exact impact of these health system changes to Title X centers needs to be assessed in order to ensure the long term sustainability of the Title X network.

Data collected from this effort will be used to inform the work of the training centers so they can better support the Title X grantees. This data will help OPA better understand challenges affecting Title X centers in order to better work with HHS entities and national stakeholders to provide resources to Title X centers. Data will be collected through an online data collection tool directly from grantees and from Title X centers.

Likely Respondents: This annual reporting requirement is service sites that receive funding (either directly from OPA or through a sub recipient or grantee agency) for family planning services authorized and funded by the Title X Family Planning Program [“Population Research and Voluntary Family Planning Programs” (91)], which was enacted in 1970 as Title X of the Public Health Service Act (Section 1001 of Title X of the Public Health Service Act, 42 United States Code [U.S.C.] 300).

Total Estimated Annualized Burden—Hours
Type of respondent | Form name | Number of respondents | Number of responses per respondent | Average annualized burden per response (hours) | Annual total burden (hours)
Grantees | Sustainability Assessment—Grantees | 92 | 1 | 0.66 | 60.72
Service Sites | Sustainability Assessment—Sites | 4,168 | 1 | 0.66 | 2750.88
Total |  | 4,260 |  |  | 2,811.60

Terry S. Clark,
Asst Information Collection Clearance Officer.

[FR Doc. 2015-14850 Filed 6-16-15; 8:45 am]

BILLING CODE 4150-48-P